DEPARTMENT OF AGRICULTURE

Food Safety and Inspection Service

[Docket No. 04-038N]

National Advisory Committee on Meat and Poultry Inspection

AGENCY: Food Safety and Inspection Service (FSIS), USDA.

ACTION: Notice of public meeting.

SUMMARY: This notice announces that the National Advisory Committee on Meat and Poultry Inspection (NACMPI) will hold a public meeting on November 16-17, 2004, to review and discuss the following issues: (1) The Food Safety and Inspection Service (FSIS) Technical Service Center (TSC): How is the TSC doing in fulfilling its mission to provide technical guidance to industry? How can it improve in providing such guidance? What has it done well? (2) How can FSIS efficiently share information through outreach and training of our constituent groups? FSIS is dedicated to effective and targeted outreach and training. How can the Agency improve its outreach to external groups, plants, states and constituents? and, (3) Developing a data depository to help FSIS anticipate food borne hazards: How can FSIS facilitate Agency acquisition of microbiological testing data from industry, academia and other constituent groups? Three subcommittees will also meet on November 16, 2004, to work on the issues discussed during the full committee session.

DATES: The full Committee will hold a public meeting on Tuesday, November 16 and Wednesday, November 17, 2004, from 8:30 a.m. to 2:30 p.m. Subcommittees will hold open meetings on Tuesday, November 16, 2004, from 3 p.m. to 6 p.m.

ADDRESSES: All Committee meetings will take place at the Hilton Alexandria Old Town Hotel, 1767 King Street, Alexandria, VA 22314. A meeting agenda is available on the Internet at http://www.fsis.usda.gov/OPPDE/NACMPI. FSIS welcomes comments on the topics to be discussed at the public meeting. Comments may be submitted by mail, including floppy disks or CD-ROM's, or by hand delivery to: Docket Clerk, U.S. Department of Agriculture, Food Safety and Inspection Service, 300 12th Street, SW., Room 102 Cotton Annex, Washington, DC 20250. Comments may also be sent by facsimile to (202) 205-0381. All submissions received must include the Agency name and docket number 04-038N.

All comments submitted in response to this notice, as well as research and background information used by FSIS in developing this document, will be available for public inspection in the FSIS Docket Room at the address listed above between 8:30 a.m. and 4:30 p.m., Monday through Friday. The comments also will be posted on the Agency's Web site at http://www.fsis.usda.gov/regulations/2004_Notices_Index/.

FOR FURTHER INFORMATION CONTACT: Robert Tynan for technical information at (202) 690-6520 or e-mail robert.tynan@fsis.usda.gov and Sonya L. West for meeting information at (202) 690-1079, fax (202) 690-6519, or e-mail sonya.west@fsis.usda.gov. Persons requiring a sign language interpreter or other special accommodations should notify Ms. West no later than November 12, 2004, at the above numbers or by e-mail.

SUPPLEMENTARY INFORMATION:

Background

On April 15, 2003, the Secretary of Agriculture renewed the charter for the NACMPI. The Committee provides advice and recommendations to the Secretary of Agriculture pertaining to the Federal and State meat and poultry inspection programs, pursuant to sections 7(c), 24, 205, 301(a)(3), 301(a)(4), and 301(c) of the Federal Meat Inspection Act (21 U.S.C. 607(c), 624, 645, 661(a)(3), 661(a)(4), and 661(c)) and sections 5(a)(3), 5(a)(4), 5(c), 8(b), and 11(e) of the Poultry Products Inspection Act (21 U.S.C. 454(a)(3), 454(a)(4), 454(c), 457(b), and 460(e)).

The Administrator of FSIS is the chairperson of the Committee. Membership of the Committee is drawn from representatives of consumer groups, producers, processors and marketers from the meat and poultry industry, state government officials and academia. The current members of the NACMPI are: Ms. Deanna Baldwin, Maryland Department of Agriculture; Dr. Gladys Bayse, Spelman College; Dr. David Carpenter, Southern Illinois University; Dr. James Denton, University of Arkansas; Mr. Darin Detwiler, Lake Washington School District; Dr. Kevin Elfering, Minnesota Department of Agriculture; Ms. Sandra Eskin, American Association of Retired Persons; Mr. Michael Govro, Oregon Department of Agriculture; Dr. Joseph Harris, Southwest Meat Association; Dr. Jill Hollingsworth, Food Marketing Institute; Dr. Alice Johnson, National Turkey Federation; Mr. Michael Kowalcyk, Safe Tables Our Priority; Dr. Irene Leech, Virginia Citizens Consumer Council; Mr. Charles Link, Cargill Meat Solutions; Dr. Catherine Logue, North Dakota State University; and Mr. Mark Schad, Schad Meats.

The Committee has three subcommittees to deliberate on specific issues and make recommendations to the Committee.

All interested parties are welcome to attend the meetings and to submit written comments and suggestions concerning Committee issues. The comments and the official transcript of the meeting, when they become available, will be kept in the FSIS Docket Room at the address provided above. All comments received in response to this notice will be considered part of the public record and will be available for viewing in the FSIS Docket Room between 8:30 a.m. and 4:30 p.m., Monday through Friday.

Members of the public will be required to register before entering the meeting.

Additional Public Notification

Public awareness of all segments of rulemaking and policy development is important. Consequently, in an effort to ensure that the public and in particular minorities, women, and persons with disabilities, are aware of this notice, FSIS will announce it on-line through the FSIS Web page located at http://www.fsis.usda.gov.

FSIS also will make copies of this Federal Register publication available through the FSIS Constituent Update, which is used to provide information regarding FSIS policies, procedures, regulations, Federal Register notices, FSIS public meetings, recalls and other types of information that could affect or would be of interest to our constituents and stakeholders. The update is communicated via Listserv, a free e-mail subscription service consisting of industry, trade, farm and consumer interest groups, allied health professionals, scientific professionals, and other individuals who have requested to be included. The update also is available on the FSIS Web page. Through Listserv and the Web page, FSIS is able to provide information to a much broader, more diverse audience.

Done in Washington, DC on November 3, 2004.
Richard Van Blargan,
Acting Administrator.

[FR Doc. 04-24882 Filed 11-8-04; 8:45 am]

BILLING CODE 3410-DM-P